DEPARTMENT OF HEALTH AND HUMAN SERVICES

National Institutes of Health

National Center for Research Resources; Notice of Closed Meetings

Pursuant to section 10(d) of the Federal Advisory Committee Act, as amended ( 5 U.S.C. Appendix 2), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Center for Research Resources Initial Review Group, Comparative Medicine Review Committee.

Date: June 5, 2007.

Time: To review and evaluate grant applications.

Place: Hilton Executive Meeting Center/Rockville, 1750 Rockville Pike, Rockville, MD 20852.

Contact Person: John R. Glowa, PhD, Scientific Review Administrator, National Center for Research Resources, or National Institutes of Health, 6701 Democracy Blvd., 1 Democracy Plaza, Room 1078, MSC 4874, Bethesda, MD 20892-4874, 301-435-0807, glowaj@mail.nih.gov.

Name of Committee: National Center for Research Resources Special Emphasis Panel; CTSA Contract Proposal NHLBI RR-07-09.

Date: June 6-7, 2007.

Time: 8 a.m. to 5 p.m.

Agenda: To review and evaluate contract proposals.

Place: Doubletree Bethesda, (formerly Holiday Inn Select Bethesda), 8120 Wisconsin Ave, Bethesda, MD 20814.

Contact Person: Linda C. Duffy, PhD, Scientific Review Administrator, Office of Review, National Center for Research Resources, National Institutes of Health, 6701 Democracy Blvd., Room 1082, Bethesda, MD 20892, (301) 435-0810, duffyl@mail.nih.gov.

Name of Committee: National Center for Research Resources Special Emphasis Panel; New England Primate Research Center (NEPRC) Site Visit.

Date: June 26-28, 2007.

Time: 8 a.m. to 5 p.m.

Agenda: To review and evaluate grant applications.

Place: Sheraton Framingham Hotel, 1657 Worcester Road, Framingham, MA 01701.

Contact Person: Carol Lambert, PhD, Scientific Review Administrator, Office of Review, National Center for Research Resources, National Institutes of Health, 6701 Democracy Blvd., 1 Dem. Plaza, Room 1076, Bethesda, MD 20892, (301) 435-0814, lambert@mail.nih.gov.

Name of Committee: National Center for Research Resources Special Emphasis Panel; C.O.B.R.E. SEP 1.

Date: June 29, 2007.

Time: 8 a.m. to 5 p.m.

Agenda: To review and evaluate grant applications.

Place: Hyatt Regency Bethesda, One Bethesda Metro Center, 7400 Wisconsin Avenue, Bethesda, MD 20814.

Contact Person: Mamta Gautam-Basak, PhD, Scientific Review Administrator, Office of Review, National Center for Research Resources, National Institutes of Health, 6701 Democracy Blvd., 1 Dem. Plaza, Rm. 1066, Bethesda, MD 20892, (301) 435-0965, GautamM@mail.nih.gov.

(Catalogue of Federal Domestic Assistance Program Nos. 93.306, Comparative Medicine; 93.333, Clinical Research; 93.371, Biomedical Technology; 93.389, Research Infrastructure, 93.306, 93.333, National Institutes of Health, HHS)

Dated: April 25, 2007.
Jennifer Spaeth,
Director, Office of Federal Advisory Committee Policy.

[FR Doc. 07-2148 Filed 5-1-07; 8:45 am]

BILLING CODE 4140-01-M